NUCLEAR REGULATORY COMMISSION

[Docket Nos. 50-0391; NRC-2016-0019]

Tennessee Valley Authority, Watts Bar Nuclear Plant, Unit 2

AGENCY: Nuclear Regulatory Commission.

ACTION: License amendment application; withdrawal by applicant.

SUMMARY: The U.S. Nuclear Regulatory Commission (NRC) has granted the request of the Tennessee Valley Authority (the licensee) to withdraw its license amendment application dated December 15, 2015, for a proposed amendment to Facility Operating License No. NPF-96 issued to the licensee for operation of the Watts Bar Nuclear Plant (WBN), Unit 2. The proposed amendment would have revised Technical Specification (TS) 3.6.12, “Ice Condenser Doors.”

DATES: The license amendment application was withdrawn on June 2, 2016.

ADDRESSES: Please refer to Docket ID NRC-2016-0019 when contacting the NRC about the availability of information regarding this document. You may obtain publicly-available information related to this document using any of the following methods:

• Federal Rulemaking Web site: Go to http://www.regulations.gov and search for Docket ID NRC-2016-0019. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Robert Schaaf, Office of Nuclear Reactor Regulation, U.S. Nuclear Regulatory Commission, Washington, DC 20555-0001; telephone: 301-415-6020, email: Robert.Schaaf@nrc.gov.

SUPPLEMENTARY INFORMATION: The NRC has granted the Tennessee Valley Authority's request to withdraw its December 15, 2015, license amendment application (ADAMS Accession No. ML15350A250) for a proposed amendment to Facility Operating License No. NPF-96 issued to the licensee for operation of the WBN, Unit 2, located in Rhea County, Tennessee.

The licensee requested to amend TS 3.6.12, “Ice Condenser Doors,” to revise the surveillance frequency of three surveillance requirements (SRs) that perform visual inspection and torque testing on the ice condenser lower inlet doors during the first cycle after receipt of the WBN, Unit 2, Facility Operating License. The purpose of the proposed amendment was to preclude an additional plant shutdown to perform surveillance testing on the ice condenser lower inlet doors based on the projected schedule for startup of WBN, Unit 2. Based on the current schedule for the startup of WBN, Unit 2, the licensee has determined that the three SRs can be performed as specified in TS 3.6.12 without requiring a unit shutdown specifically for the purpose of performing the ice condenser door SRs.

This proposed amendment request was noticed in the Federal Register on February 2, 2016 (81 FR 5501). By letter dated June 2, 2016 (ADAMS Accession No. ML16155A071), Tennessee Valley Authority withdrew its license amendment application.

Dated at Rockville, Maryland, this 30th day of June 2016.
For the Nuclear Regulatory Commission.
Tracy Orf,
Acting Chief, Plant Licensing Branch II-2, Division of Operating Reactor Licensing, Office of Nuclear Reactor Regulation.

[FR Doc. 2016-16105 Filed 7-6-16; 8:45 am]

BILLING CODE 7590-01-P